DEPARTMENT OF COMMERCE

National Oceanic and Atmospheric Administration

[I.D. 041403E]

Western Pacific Fishery Management Council; Public Meeting

AGENCY: National Marine Fisheries Service (NMFS), National Oceanic and Atmospheric Administration (NOAA), Commerce.

ACTION: Notice of public meeting.

SUMMARY: The 83rd meeting of the Western Pacific Fishery Council's Scientific and Statistical Committee (SSC) will convene in Honolulu, HI.

DATES: The meeting will be held on May 6-8, 2003. The SSC meeting will be held from 9 a.m. to 5 p.m. on May 6, 2003 and from 8:30 a.m. to 5 p.m. on May, 7-8 2003.

ADDRESSES: The 83rd SSC meeting will be held at the Council office conference room, 1164 Bishop St., Suite 1400, Honolulu, HI; telephone: (808-522-8220).

Council address: Western Pacific Fishery Management Council, 1164 Bishop St., Suite 1400, Honolulu, HI 96813.

FOR FURTHER INFORMATION CONTACT: Kitty M. Simonds, Executive Director; telephone: 808-522-8220.

SUPPLEMENTARY INFORMATION: The SSC will discuss and may make recommendations to the Council on the agenda items below. The order in which agenda items will be addressed can change.

Tuesday, May 6, 2003, 9 a.m.

1. Bottomfish

a. 2002 Annual Report

b. Overfishing/Maximum Sustainable Yield

i. Status of the stocks based on new control rule

ii Genetic research

iii. Main Hawaiian Islands (MHI) area closure monitoring

iv. Rebuilding options for stocks

c. Guam offshore fishery management

d. Plan Team report

2. Protected Species

a. Status of Sea Turtle Recovery Team and Recovery Plans

b. Report on Monk Seal Recovery Team Meeting (15-17 April, 2003)

3. Crustaceans Fisheries

a. Status of the fishery

b. Report on Northwestern Hawaiian Islands (NWHI) lobster research

i. Report on MULTIFAN-CL stock assessment analyses

ii. Report on slipper lobster tagging research

iii. Report on analyses of outstanding lobster cruise data

c. NMFS annual lobster research cruise plan

d. MHI lobster stock assessment

e. Plan Team report

4. Precious Corals

Plan Team report

Wednesday, May 7, 2003, 8:30 a.m.

5. Quantitative assessment of capacity in Hawaii's fisheries.

6. Pelagic Fisheries

a. 2002 Annual Report

b. Report on American Samoa scientific data collection program

c. Report on phase two of chute trials for Seabird conservation

d. Turtle/Fishery conservation alternatives

e. Marlin management

f. Status of Environmental Impact Statements (EISs)

i. Supplemental Pelagic EIS

ii. MHI Turtle EIS

g. International Meetings and Issues

i. Food & Agriculture Organization Committee on Fisheries (COFI) meeting

ii. NMFS Turtle bycatch meeting

iii. 23rd Turtle symposium

h. Plan Team report

Thursday, May 8, 2003, 8:30 a.m.

7. Taape (blue lined snapper) interactions with reef fish

8. Ecosystem and Habitat

a. NOS NWHI Reserve Science Workshop

b. NMFS/Council NWHI Symposium

c. Report from Council Marine Protected Area Working Group

d. Report on Secretariat of the Pacific Community Coastal Fishery Management Meeting

e. Report on Plan Team meeting

9. Other Business

Report from the Social Science Research Committee Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Kitty M. Simonds, 808-522-8220 (voice) or 808-522-8226 (fax), at least 5 days prior to meeting date.

Dated: April 15, 2003.
Matteo J. Milazzo,
Acting Director, Office of Sustainable Fisheries, National Marine Fisheries Service.

[FR Doc. 03-9792 Filed 4-18-03; 8:45 am]

BILLING CODE 3510-22-S